DEPARTMENT OF HOMELAND SECURITY

U.S. Customs and Border Protection

Modification of National Customs Automation Program (NCAP) Test Concerning Automated Commercial Environment (ACE) Document Image System (DIS) Relating to Animal and Plant Health Inspection Service (APHIS) Document Submissions

AGENCY: U.S. Customs and Border Protection, Department of Homeland Security.

ACTION: General notice.

SUMMARY: This document announces U.S. Customs and Border Protection's (CBP's) plan to modify part of the National Customs Automation Program (NCAP) test concerning document imaging, known as Phase III of the Document Image System (DIS) test. Phase III of the DIS test allows Automated Commercial Environment (ACE) participants to submit electronic images of a specific set of CBP and Partner Government Agency (PGA) forms and supporting information to CBP via a CBP-approved Electronic Data Interchange (EDI). This notice announces that ACE participating importers and brokers may now submit DIS test-supported Animal and Plant Health Inspection Service (APHIS) documents, in Portable Document Format (PDF) file format, via email, to docs@cbp.dhs.gov.

DATES: The modified DIS test will commence no earlier than February 17, 2015, and will continue until concluded by way of announcement in the Federal Register.

ADDRESSES: Comments concerning this notice and any aspect of the test may be submitted at any time during the test via email to Monica Crockett at monica.v.crockett@cbp.dhs.gov. In the subject line of your email, please indicate “Comment on Document Image System (DIS)”.

FOR FURTHER INFORMATION CONTACT: For policy-related questions, contact Monica Crockett at monica.v.crockett@cbp.dhs.gov. For technical questions related to ABI transmissions, contact your assigned client representative. Any partner government agency (PGA) interested in participating in DIS should contact Elizabeth McQueen at elizabeth.mcqueen@cbp.dhs.gov. Interested parties without an assigned client representative should direct their questions to Steven Zaccaro at steven.j.zaccaro@cbp.dhs.gov.

SUPPLEMENTARY INFORMATION:

Background

This test notice, and the Customs related electronic functions it describes, are part of the National Customs Automation Program (NCAP). NCAP was established in Subtitle B of Title VI—Customs Modernization, in the North American Free Trade Agreement Implementation Act (Pub. L. 103-182, 107 Stat. 2057, 2170, December 8, 1993) (Customs Modernization Act). See 19 U.S.C. 1411. Through NCAP, the initial focus of customs modernization was on trade compliance and the development of the Automated Commercial Environment (ACE), the planned successor to the legacy Customs Automated Commercial System (ACS). ACE is an automated and electronic system for commercial trade processing. ACE will streamline business processes, facilitate growth in trade, ensure cargo security, and foster participation in global commerce, while ensuring compliance with U.S. laws and regulations and reducing costs for CBP and all its communities of interest. The ability to meet these objectives depends upon successfully modernizing CBP's business functions and the information technology that supports those functions. CBP's modernization efforts are accomplished through phased releases of ACE component functionality, designed to introduce a new capability or to replace a specific legacy ACS function. Each release will begin with a test, and will end with mandatory compliance with the new ACE feature, thus retiring the legacy ACS function. Each release builds on previous releases, and sets the foundation for subsequent releases. For the convenience of the public, all Federal Register publications detailing ACE test developments in Entry, Summary, Accounts, and Revenue (ESAR) are listed chronologically at the end of this notice, in the section “Development of ACE Prototypes.”

One of the phased releases is for the Document Imaging System (DIS) feature, which allows participants to submit certain information electronically instead of submitting that information via a paper document. The DIS test allows ACE participants to submit electronic images of a specific set of CBP and Partner Government Agency (PGA) forms and supporting information to CBP. Specifically, importers and brokers are allowed to submit specified official CBP documents and specified PGA documents via a CBP-approved Electronic Data Interchange (EDI). The first phase of the DIS test, Phase I, enabled participating importers and brokers to transmit images of specified CBP and PGA forms with supporting information via a CBP approved EDI in an Extensible Markup Language (XML) file format, in lieu of conventional paper methods. See 77 FR 20835 (April 6, 2012). In the second phase, Phase II, CBP reduced the number of metadata elements required for each document and specified forms that were eligible to be submitted earlier, i.e. at the time of manifest, or transmitted via a CBP-approved EDI to support ACE Cargo Release filings (previously known as Simplified Entry filings). In Phase II CBP also expanded the pool of eligible participants to include software providers, who only electronically transmit data that they had received for transmission to CBP. See 78 FR 44142 (July 23, 2013).

On June 25, 2014, CBP published in the Federal Register a notice announcing the third phase of the DIS test, Phase III, which added to the list of documents supported by the DIS test. See 79 FR 36083 (June 25, 2014). The DIS test supports certain PGA forms and supporting information, which include ones that the Animal and Plant Health Inspection Service (APHIS) requires. See 79 FR 36083 for the complete list of CBP and PGA documents, which the DIS test supports as of the date of this notice.

Pursuant to Phase III of the DIS test, parties who file entry summaries in ACE are allowed to submit specified CBP and PGA documents via a CBP-approved EDI. DIS capabilities will continue to be delivered in multiple phases.

CBP will continue to publish in the Federal Register announcements to notify ACE participants when they may submit any new CBP or PGA documents into the DIS test, or when they may send any other DIS test-supported documents via email in PDF file format. All other eligibility criteria, technical specifications, recordkeeping requirements, and rules for submitting to DIS, as specified in prior DIS test notices, remain the same. See 79 FR 36083.

Authorization for the Test

The Customs Modernization provisions in the North American Free Trade Agreement Implementation Act provide the Commissioner of CBP with authority to conduct limited test programs or procedures designed to evaluate planned components of the NCAP. This test is authorized pursuant to § 101.9(b) of the CBP Regulations (19 CFR 101.9(b)) which provides for the testing of NCAP programs or procedures. See Treasury Decision (T.D.) 95-21.

Modification of Phase III of the Document Image System (DIS) Test Program

This notice announces that, as an addition to Phase III, CBP is now allowing brokers and importers, who are also ACE participants, to file DIS test-supported APHIS documents, in Portable Document Format (PDF) file format, via email, to this email address: docs@cbp.dhs.gov.

The DIS test-supported APHIS documents, which ACE-participating brokers and importers may send in PDF file format to docs@cbp.dhs.gov, are:

• APHIS STAT Supporting Statement

• APHIS Import Permit

• APHIS Plant Protection and Quarantine (PPQ) Form 368, Notice of Arrival (of a restricted article at the port of entry)

• APHIS PPQ Form 203, Foreign Site Certificate of Inspection and/or Treatment

• APHIS PPQ Form 586, Application for Permit to Transit Plants and/or Plant Products, Plant Pests, and/or Associated Soil through the United States

• APHIS PPQ Form 587, Application for Permit to Import Plants or Plant Products

• APHIS Transit Permit

• Foreign Government Sanitary Certificate (Veterinary Health Certificate) (used by APHIS)

• Ingredients List (used by APHIS)

• Phytosanitary Certificates (used by APHIS)

• Proof of origin (for origin shipments of milk and milk products) (used by APHIS)

Test Participation

All other eligibility criteria, technical specifications, recordkeeping requirements, and rules for submitting to DIS remain the same. For more information about the eligibility criteria, technical specifications, recordkeeping requirements, and rules for submitting to DIS, see 79 FR 36083.

Development of ACE Prototypes

A chronological listing of Federal Register publications, which describe ESAR ACE test developments, is provided, below.

• ACE Portal Accounts and Subsequent Revision Notices: 67 FR 21800 (May 1, 2002); 69 FR 5360 and 69 FR 5362 (February 4, 2004); 69 FR 54302 (September 8, 2004); 70 FR 5199 (February 1, 2005).

• ACE System of Records Notice: 71 FR 3109 (January 19, 2006).

• Terms/Conditions for Access to the ACE Portal and Subsequent Revisions: 72 FR 27632 (May 16, 2007); 73 FR 38464 (July 7, 2008).

• ACE Non-Portal Accounts and Related Notice: 70 FR 61466 (October 24, 2005); 71 FR 15756 (March 29, 2006).

• ACE Entry Summary, Accounts and Revenue (ESAR I) Capabilities: 72 FR 59105 (October 18, 2007).

• ACE Entry Summary, Accounts and Revenue (ESAR II) Capabilities: 73 FR 50337 (August 26, 2008); 74 FR 9826 (March 6, 2009).

• ACE Entry Summary, Accounts and Revenue (ESAR III) Capabilities: 74 FR 69129 (December 30, 2009).

• ACE Entry Summary, Accounts and Revenue (ESAR IV) Capabilities: 76 FR 37136 (June 24, 2011).

• Post-Entry Amendment (PEA) Processing Test: 76 FR 37136 (June 24, 2011).

• ACE Announcement of a New Start Date for the National Customs Automation Program Test of Automated Manifest Capabilities for Ocean and Rail Carriers: 76 FR 42721 (July 19, 2011).

• ACE Simplified Entry: 76 FR 69755 (November 9, 2011).

• National Customs Automation Program (NCAP) Tests Concerning Automated Commercial Environment (ACE) Document Image System (DIS): 77 FR 20835 (April 6, 2012).

• National Customs Automation Program (NCAP) Tests Concerning Automated Commercial Environment (ACE) Simplified Entry: Modification of Participant Selection Criteria and Application Process: 77 FR 48527 (August 14, 2012).

• Modification of NCAP Test Regarding Reconciliation for Filing Certain Post-Importation Preferential Tariff Treatment Claims under Certain FTAs: 78 FR 27984 (May 13, 2013).

• Modification of Two National Customs Automation Program (NCAP) Tests Concerning Automated Commercial Environment (ACE) Document Image System (DIS) and Simplified Entry (SE): 78 FR 44142 (July 23, 2013).

• Modification of Two National Customs Automation Program (NCAP) Tests Concerning Automated Commercial Environment (ACE) Document Image System (DIS) and Simplified Entry (SE); Correction: 78 FR 53466 (August 29, 2013).

• Modification of NCAP Test Concerning Automated Commercial Environment (ACE) Cargo Release (formerly known as Simplified Entry): 78 FR 66039 (November 4, 2013).

• Post-Summary Corrections to Entry Summaries Filed in ACE Pursuant to the ESAR IV Test: Modifications and Clarifications: 78 FR 69434 (November 19, 2013).

• National Customs Automation Program (NCAP) Test Concerning the Submission of Certain Data Required by the Environmental Protection Agency and the Food Safety and Inspection Service Using the Partner Government Agency Message Set Through the Automated Commercial Environment (ACE): 78 FR 75931 (December 13, 2013).

• Modification of National Customs Automation Program (NCAP) Test Concerning Automated Commercial Environment (ACE) Cargo Release for Ocean and Rail Carriers: 79 FR 6210 (February 3, 2014).

• Modification of National Customs Automation Program (NCAP) Test Concerning Automated Commercial Environment (ACE) Cargo Release To Allow Importers and Brokers To Certify From ACE Entry Summary: 79 FR 24744 (May 1, 2014).

• Modification of National Customs Automation Program (NCAP) Test Concerning Automated Commercial Environment (ACE) Cargo Release for Truck Carriers: 79 FR 25142 (May 2, 2014).

• Modification of National Customs Automation Program (NCAP) Test Concerning Automated Commercial Environment Document Image System: 79 FR 36083 (June 25, 2014).

• eBond Test: 79 FR 70881 (November 28, 2014); 80 FR 899 (January 7, 2015).

Dated: January 27, 2015.
Brenda Smith,
Assistant Commissioner, Office of International Trade.

[FR Doc. 2015-01822 Filed 1-29-15; 8:45 am]

BILLING CODE 9111-14-P